DEPARTMENT OF ENERGY

Federal Energy Regulatory Commission

[Docket No. RP04-585-000]

Northern Natural Gas Company; Notice of Limited Waiver

September 14, 2004.

Take notice that on August 31, 2004, Northern Natural Gas Company (Northern) tendered for filing a petition for limited waiver of Northern's FERC Gas Tariff in order to allow FDD shippers to use the imbalance-to-storage option for resolving imbalances during the period of August 25, 2004 through September 30, 2004.

Northern states that the purpose of the storage allocation provision is to prevent shippers from injecting or withdrawing from their FDD or IDD storage accounts when there is insufficient daily storage capacity to accommodate all daily storage nominations. On storage allocation days imbalance-to-storage shippers still have the option to resolve their imbalances using the Monthly Imbalance Trading or Monthly Cash-in/out provisions.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the date as indicated below. Anyone filing an intervention or protest must serve a copy of that document on the Applicant. Anyone filing an intervention or protest on or before the intervention or protest date need not serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Intervention and Protest Date: 5 p.m. eastern standard time September 21, 2004.

Linda Mitry,
Acting Secretary.

[FR Doc. E4-2269 Filed 9-20-04; 8:45 am]

BILLING CODE 6717-01-P